DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed changes to the currently approved information collection project: “Consumer Assessment of Healthcare Providers and Systems (CAHPS) Clinician and Group Survey Comparative Database.” In accordance with the Paperwork Reduction Act, 44 U.S.C. 3501-3521, AHRQ invites the public to comment on this proposed information collection.

This proposed information collection was previously published in the Federal Register on August 11, 2015 and allowed 60 days for public comment. AHRQ received one substantive comment from the public.

The purpose of this notice is to allow an additional 30 days for public comment.

DATES: Comments on this notice must be received by December 18, 2015.

ADDRESSES: Written comments should be submitted to: AHRQ's OMB Desk Officer by fax at (202) 395-6974 (attention: AHRQ's desk officer) or by email at OIRA_submission@omb.eop.gov (attention: AHRQ's desk officer).

FOR FURTHER INFORMATION CONTACT: Doris Lefkowitz, AHRQ Reports Clearance Officer, (301) 427-1477, or by email at doris.lefkowitz@AHRQ.hhs.gov.

SUPPLEMENTARY INFORMATION:

Proposed Project

Consumer Assessment of Healthcare Providers and Systems (CAHPS) Clinician and Group Survey Comparative Database

The CAHPS Clinician and Group Survey (“the CAHPS CG Survey”) is a tool for collecting standardized information on patients' experiences with physicians and staff in outpatient medical practices, enabling clinicians and administrators to assess and improve patients' experiences with medical care. The CAHPS CG survey is a product of the CAHPS® program, which is funded and administered by AHRQ. AHRQ works closely with a consortium of public and private research organizations to develop and maintain surveys and tools to advance patient-centered care. CAHPS® is a registered trademark of AHRQ. In 1999, the CAHPS Consortium began work on a survey that would assess patients' experiences with medical groups and clinicians. The CAHPS Consortium developed a preliminary instrument known as the CAHPS Group Practices Survey (G-CAHPS), with input from the Pacific Business Group on Health, whose Consumer Assessment Survey established a precedent for this type of instrument.

In August 2004, AHRQ issued a notice in the Federal Register inviting organizations to test the CAHPS CG Survey. These field-test organizations were crucial partners in the evolution and development of the instrument, and provided critical data illuminating key aspects of survey design and administration. In July 2007 the CAHPS CG Survey was endorsed by the National Quality Forum (NQF), an organization established to standardize health care quality measurement and reporting. The endorsement represents the consensus of many health care providers, consumer groups, professional associations, purchasers, Federal agencies, and research and quality organizations. The CAHPS CG Survey and related toolkit materials are available on the CAHPS Web site at https://cahps.ahrq.gov/surveys-guidance/cg/instructions/index.html. Since its release, the survey has been used by thousands of physicians and medical practices across the U.S.

The current CAHPS Consortium includes AHRQ, the Centers for Medicare & Medicaid Services (CMS), RAND, Yale School of Public Health, and Westat.

AHRQ developed the database for CAHPS CG Survey data following the CAHPS Health Plan Database as a model. The CAHPS Health Plan Database was developed in 1998 in response to requests from health plans, purchasers, and CMS for comparative data to support public reporting of health plan ratings, health plan accreditation and quality improvement (OMB Control Number 0935-0165, expiration 5/31/2017). Demand for comparative results from the CG Survey has grown as well, and therefore AHRQ developed a dedicated CAHPS Clinician and Group Database to support benchmarking, quality improvement, and research (OMB Control Number 0935-0197, expiration 06/30/2015).

The CAHPS Database contains data from AHRQ's standardized CAHPS Surveys which provide comparative measures of quality to health care purchasers, consumers, regulators, and policy makers. The CAHPS Database also provides data for AHRQ's annual National Healthcare Quality and Disparities Report.

Health systems, medical groups and practices that administer the CAHPS Clinician & Group Survey according to CAHPS specifications can participate in this project. A health system is a complex of facilities, organizations, and providers of health care in a specified geographic area. A medical group is defined as a medical group, Accountable Care Organization (ACO), State organization or some other grouping of medical practices. A practice is an outpatient facility in a specific location whose physicians and other providers share administrative and clinical support staff. Each practice located in a building containing multiple medical offices is considered a separate practice.

The goal of this project is to renew the CAHPS CG Database. This database will continue to update the CAHPS CG Database with the latest results of the CAHPS CG Survey. These results consist of 34 items that measure 5 areas or composites of patients' experiences with physicians and staff in outpatient medical practices. This database:

(1) Allows participating organizations to compare their survey results with those of other outpatient medical groups;

(2) Provides data to medical groups and practices to facilitate internal assessment and learning in the quality improvement process; and

(3) Provides information to help identify strengths and areas with potential for improvement in patient care. The five composite measures are:

• Getting Timely Appointments, Care, and Information

• How Well Providers Communicate With Patients

• Helpful, Courteous, and Respectful Office Staff

• Care Coordination

• Patients' Rating of the Provider

The collection of information for the CAHPS CG Database for Clinicians and Groups is being conducted pursuant to AHRQ's statutory authority to conduct and support research on health care and systems for the delivery of such care, including activities with respect to the quality, effectiveness, efficiency, appropriateness and value of health care services; quality measurement and improvement; and health surveys and database development 42 U.S.C. 299a(a)(1), (2) and (8).

Method of Collection

To achieve the goal of this project, the following activities and data collections will be implemented:

(1) Registration Form—The purpose of this form is to determine the eligibility status and initiate the registration process for participating organizations seeking to voluntarily submit their CAHPS CG Survey data to the CAHPS CG Database. The point of contact (POC) at the participating organization (or parent organization) will complete the form. The POC is either a corporate-level health care manager or a survey vendor who contracts with a participating organization to collect the CAHPS CG Survey data.

(2) Data Use Agreement—The purpose of this DUA is to obtain authorization from participating organizations to use their voluntarily submitted CAHPS CG Survey data for analysis and reporting according to the terms specified in the Data Use Agreement (DUA). The POC at the organization will complete the form. Vendors do not sign the DUA.

(3) Data Submission—The number of submissions to the database may vary each year because medical groups and practices may not administer the survey and submit data each year. Data submission is typically handled by one POC who either is a health system, medical group or practice or a survey vendor who contracts with the medical group or practice to collect their data. After the POC has completed the Registration Form and the Data Use Agreement, they will submit their patient-level data from the CAHPS CG Survey to the CAHPS CG Database. Data on the organizational characteristics such as ownership, number of patient visits per year, medical specialty, and information related to survey administration such as mode, dates of survey administration, sample size, and response rate, which are collected as part of CAHPS CG Survey operations are also submitted. Each submission will consist of 3 data files: (1) A Group File that contains information about the group ownership and size of group, (2) a Practice File containing type of practice, the practice ownership and affiliation (i.e., commercial, hospital or integrated delivery system, insurance company, university or medical school, community health center, VA or military) and number of patient visits per year, and (3) a Sample File that contains one record for each patient surveyed, the date of visit, survey disposition code and information about survey completion.

Survey data from the CAHPS CG Database is used to produce four types of products: (1) An online reporting of results available to the public on the CAHPS Database Web site; (2) individual participant comparative reports that are confidential and customized for each participating organization that submits their data, (3) an annual Chartbook that presents summary-level results in a downloadable PDF file; and (4) a dataset available to researchers for additional analyses.

Information for the CAHPS CG Database has been collected by AHRQ through its contractor Westat on an annual basis since 2010. Participating organizations are asked to voluntarily submit their data to the CAHPS CG Database each year. The data is cleaned with standardized programs, then aggregated and used to produce comparative results. In addition, reports are produced that compare the participating organizations' results to the database in a password-protected section of the CAHPS CG Database online reporting system.

Estimated Annual Respondent Burden

Exhibit 1 shows the estimated burden hours for the respondent to participate in the CAHPS CG Database. The 20 POCs in exhibit 1 are the number of estimated vendors. The 240 POCs in exhibit 1 are the number of estimated participating Health/Medical entities.

Each vendor will register online for submission. The online Registration form will require about 5 minutes to complete. The data use agreement will be completed by the 240 participating Health/Medical entities. Vendors do not sign DUAs. The DUA requires about 3 minutes to sign and return by fax, mail or to upload directly in the submission system. Each submitter will provide a copy of their questionnaire and the survey data file in the required file format. Survey data files must conform to the data file layout specifications provided by the CAHPS CG Database. The number of data submissions per POC will vary because some may submit data for multiple practices, while others may submit data for only one. Once a data file is uploaded the file will be automatically checked to ensure it conforms to the specifications and a data file status report will be produced and made available to the submitter. Submitters will review each report and will be expected to fix any errors in their data file and resubmit if necessary. It will take about one hour to complete each file submission. The total burden is estimated to be 454 hours annually.

Exhibit 1—Estimated annualized burden hours
Form name | Number of respondents/POCs | Number of responses for each POC | Hours per response | Total burden hours
Registration Form | 20 | 1 | 5/60 | 2
Data Use Agreement | 240 | 1 | 3/60 | 12
Data Files Submission | 440 | 1 | 1 | 440
Total | 700 | NA | NA | 454

Exhibit 2 shows the estimated annualized cost burden based on the respondents' time to complete the submission process. The cost burden is estimated to be $18,613 annually.

Exhibit 2—Estimated annualized cost burden
Form name | Number of respondents/POCs | Total burden hours | Average hourly wage rate* | Total cost burden
Registration Form | 20 | 2 | 39.75ᵃ | $80
Data Use Agreement | 240 | 12 | 86.88ᵇ | $1043
Data Files Submission | 20 | 440 | 39.75ᶜ | $17,490
Total | 280 | 454 | NA | $18,613
* National Compensation Survey: Occupational wages in the United States May 2014, “U.S. Department of Labor, Bureau of Labor Statistics.” a) and c) Based on the mean hourly wages for Computer Programmer (15-1131). b) Based on the mean hourly wage for Chief Executives (11-1011). http://www.bls.gov/oes/current/oes_nat.htm#15-0000.

Request for Comments

In accordance with the Paperwork Reduction Act, comments on AHRQ's information collection are requested with regard to any of the following: (a) Whether the proposed collection of information is necessary for the proper performance of AHRQ health care research and information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Sharon B. Arnold,
Deputy Director.

[FR Doc. 2015-29440 Filed 11-17-15; 8:45 am]

BILLING CODE 4160-90-P